DEPARTMENT OF AGRICULTURE

Office of the Secretary

[Docket No. 00-072-2]

Declaration of Emergency Because of an Atypical Transmissible Spongiform Encephalopathy (Prion Disease) of Foreign Origin

A transmissible spongiform encephalopathy (TSE) (prion disease) of foreign origin has been detected in the United States. It is different from TSE's previously diagnosed in the United States. The TSE was detected in the progeny of imported sheep. The imported sheep and their progeny are under quarantine in Vermont.

Transmissible spongiform encephalopathies are degenerative fatal diseases that can affect livestock. TSE's are caused by similar, as yet uncharacterized, agents that usually produce spongiform changes in the brain.

Post-mortem analysis has indicated positive results for an atypical TSE of foreign origin in four sheep in Vermont. Because of the potentially serious consequences of allowing the disease to spread to other livestock in the United States, it is necessary to seize and dispose of those flocks of sheep in Vermont that are affected with or exposed to the disease, and their germ plasm.

The existence of the atypical TSE of foreign origin represents a threat to U.S. livestock. It constitutes a real danger to the national economy and a potential serious burden on interstate and foreign commerce.

APHIS has insufficient funds to carry out the seizure and disposal of animals and germ plasm necessary to eliminate this disease risk. These funds would be used to compensate the owners of the animals and germ plasm for their seizure and disposal in accordance with 21 U.S.C. 134a.

Therefore, in accordance with the provisions of the Act of September 25, 1981, as amended (7 U.S.C. 147b), I declare that there is an emergency that threatens the livestock industry of this country and hereby authorize the transfer and use of such funds as may be necessary from appropriations or other funds available to agencies or corporations of the United States Department of Agriculture to seize and dispose of animals that are affected with or exposed to this TSE, and their germplasm, in accordance with 21 U.S.C. 134a.

Dated: This declaration of emergency shall become effective July 14, 2000.
Dan Glickman,
Secretary of Agriculture.

[FR Doc. 00-18368 Filed 7-19-00; 8:45 am]

BILLING CODE 3410-34-P